DEPARTMENT OF ENERGY

National Nuclear Security Administration

Notice of Intent To Prepare an Environmental Assessment for the Transfer of the Kansas City Plant, Kansas City, MO

AGENCY: National Nuclear Security Administration (NNSA), Department of Energy (DOE).

ACTION: Notice of intent to prepare an environmental assessment.

SUMMARY: Pursuant to the National Environmental Policy Act of 1969 (NEPA), and the Council on Environmental Quality and U.S. Department of Energy (DOE) regulations implementing NEPA, the National Nuclear Security Administration (NNSA), a semi-autonomous agency within DOE, announces its intention to prepare an Environmental Assessment (EA) for the transfer of the Kansas City Plant (KCP) (DOE/EA-1947), which is an NNSA-owned property at the Bannister Federal Complex (BFC). Concurrently, NNSA is canceling the Notice of Intent issued on January 23, 2012 (77 FR 3259) for the preparation of an Environmental Impact Statement for the Disposition of the Bannister Federal Complex, Kansas City, Missouri, and Notice of Wetlands Involvement (DOE/EIS-0475).

FOR FURTHER INFORMATION CONTACT: To ask questions about the KCP Transfer EA, or to be notified when the draft EA is available for public review, please contact: Mr. Nathan Gorn, NNSA Kansas City Field Office, 2000 E. 95th Street, Kansas City, Missouri, 64131; telephone: (816) 997-4197; or email: Nathan.Gorn@nnsa.doe.gov. For general information about GSA activities at the BFC, please contact: Jeremiah Nelson, Asset Manager, U.S. General Services Administration, 1500 East Bannister Road, Room 2135, Kansas City, Missouri 64131-3088; email: jeremiah.nelson@gsa.gov; telephone: (816) 823-5803; fax: (816) 926-1140.

DOE's NEPA Compliance Program: Additional information regarding DOE NEPA activities and access to many of DOE's NEPA documents are available on the Internet through the DOE NEPA Web site at http://energy.gov/nepa. For general information about the DOE NEPA process, please contact: Carol M. Borgstrom, Director, Office of NEPA Policy and Compliance, Office of the General Counsel (GC-54), U.S. Department of Energy, 1000 Independence Avenue SW., Washington, DC 20585; email: askNEPA@hq.doe.gov; telephone: (202) 586-4600; fax: (202) 586-7031; or leave a message at (800) 472-2756.

SUPPLEMENTARY INFORMATION:

Background. The KCP is within the corporate city limits of Kansas City, Missouri, approximately 8 miles south of the city center. It can be accessed via major highways (Interstate 435 and U.S. Highway 71), as well as auxiliary and smaller secondary streets. The approximately 300-acre BFC is owned by NNSA and the General Services Administration (GSA). NNSA owns the portion of the BFC known as the KCP, consisting of approximately 122 acres and 38 buildings. GSA owns the remainder of the BFC, consisting of approximately 175 acres and 13 buildings. The KCP shares individual buildings and utilities with GSA operations at the BFC. The property is currently zoned M3-5, manufacturing.

No wetlands are present on the KCP. There are no residences and no agricultural activities or farmlands on the KCP. The adjoining properties are mostly residential with isolated commercial tracts, except along the eastern and northern sides, which have been designated for public and recreational uses.

The KCP has been extensively characterized for the presence of legacy contamination that might impact soils and groundwater at the site. Active remediation has taken place at previously identified solid waste management units, and NNSA continues to implement environmental remedies. On August 24, 2012, NNSA received final permit modifications for the existing Missouri Hazardous Waste Management Facility Part I Permit and the existing Hazardous and Solid Waste Amendments of 1984 Part II Permit from the Missouri Department of Natural Resources and the U.S. Environmental Protection Agency (EPA). Those permit modifications require NNSA and GSA to conduct further environmental investigation, monitoring, and risk assessment, and will allow better coordination of environmental investigations.

Beginning in 2013, NNSA will relocate its operations from the KCP to a newly constructed industrial campus 8 miles south of the BFC. NNSA's relocation of operations to the new facility was analyzed in an EA that GSA completed in 2008 and DOE adopted (DOE/EA-1592). When the move is completed, the KCP property at the BFC will be excess to the needs of NNSA's mission and will be available for transfer.

GSA is continuing to evaluate its options to potentially relocate its operations to a new location away from the BFC. If GSA decides to relocate its operations, its real property at the BFC also could be available for transfer.

Purpose and Need for Agency Action. The purpose and need for agency action is to transfer the KCP as excess Federal property in an environmentally safe and fiscally responsible manner. This would enable NNSA to reduce its operational footprint and reduce operational and maintenance costs.

Proposed Action and No Action Alternative. The proposed action is to transfer the NNSA's KCP property either in whole or in part. In October 2011, NNSA issued a notice of availability via the Federal Business Opportunities Web site soliciting proposals of interest for the transfer, sale, or lease of the KCP. Through this ongoing notice of availability process, NNSA identified a preferred planning partner and determined that only land uses consistent with current zoning are feasible. Based on preliminary discussions with the preferred planning partner, and input received during the scoping process for the now-cancelled EIS, NNSA's Environmental Assessment for the Transfer of the Kansas City Plant, Kansas City, Missouri (the KCP Transfer EA) will consider the No Action Alternative, where NNSA relocates operations from the KCP and maintains ownership of its property; and the Proposed Action Alternative, where NNSA transfers the KCP property for mixed use (industrial, warehouse, commercial, office). Under the proposed action, the EA will address the potential direct, indirect, and cumulative impacts of using the KCP property for uses consistent with current zoning. NNSA will also analyze the potential environmental impacts of partial and/or complete demolition of some KCP structures.

Issued in Kansas City, MO, this 16th day of November 2012.
Mark L. Holecek,
Manager, Kansas City Field Office, NNSA Kansas City Plant.

[FR Doc. 2012-28713 Filed 11-29-12; 8:45 am]

BILLING CODE 6450-01-P